DEPARTMENT OF COMMERCE

National Oceanic and Atmospheric Administration

RIN 0648-XD91

Endangered Species; File No. 10027

AGENCY: National Marine Fisheries Service (NMFS), National Oceanic and Atmospheric Administration (NOAA), Commerce.

ACTION: Notice; receipt of application.

SUMMARY: Notice is hereby given that Center for Biodiversity and Conservation, American Museum of Natural History, Central Park West at 79th Street, New York, New York 10024, has applied in due form for a permit to take green (Chelonia mydas) and hawksbill (Eretmochelys imbricata) sea turtles for purposes of scientific research.

DATES: Written, telefaxed, or e-mail comments must be received on or before [December 17, 2007.

ADDRESSES: The application and related documents are available for review upon written request or by appointment in the following offices:

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10027.

FOR FURTHER INFORMATION CONTACT: Patrick Opay or Amy Hapeman, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to study the population biology and connectivity of green and hawksbill sea turtles focusing on distribution and abundance, ecology, health, and threats to sea turtles at the Palmyra Atoll in the Pacific Ocean. Researchers would also consider management and conservation applications of their research. Up to 300 green and 100 hawkbill sea turtles would be captured by hand or net, examined, measured, photographed, flipper and Passive Integrated Transponder tagged, blood sampled, carapace sampled, shell etched and painted, fecal sampled, have their temperature measured, and released. Up to 75 of the green and 25 of the hawksbill sea turtles would also be gastric lavaged before release. Up to 15 of the green and 5 of the hawksbill sea turtles would have transmitters affixed to their carapace before release. Additionally, researchers would examine, measure, tissue sample, stomach sample, humerus sample, and photograph up to 30 green and 10 hawksbill sea turtle carcasses that they may encounter. The permit would be valid for 5 years and the research would occur.

Dated: November 9, 2007.
P. Michael Payne,
Chief, Permits, Conservation and Education Division, Office of Protected Resources, National Marine Fisheries Service.

[FR Doc. E7-22450 Filed 11-15-07; 8:45 am]

BILLING CODE 3510-22-S